DEPARTMENT OF DEFENSE

Defense Acquisition Regulations System

Information Collection Requirement; Defense Federal Acquisition Regulation Supplement; Special Contracting Methods

AGENCY: Defense Acquisition Regulations System, Department of Defense (DoD).

ACTION: Notice and request for comments.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of the agency, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through December 31, 2011. DoD proposes that OMB extend its approval for three additional years.

DATES: DoD will consider all comments received by October 31, 2011.

ADDRESSES: You may submit comments, identified by OMB Control Number 0704-0214, using any of the following methods:

○ Regulations.gov: http://www.regulations.gov. Follow the instructions for submitting comments.

○ E-mail: dfars@osd.mil. Include OMB Control Number 0704-0214 in the subject line of the message.

○ Fax: (703) 602-0350.

○ Mail: Defense Acquisition Regulations System, Attn: Manuel Quinones, OUSD(AT&L)DPAP/DARS, 3060 Defense Pentagon, Room 3B855, Washington, DC 20301-3060.

Comments received will be posted without change to http://www.regulations.gov, including any personal information provided. To confirm receipt of your comment(s), please check http://www.regulations.gov approximately two to three days after submission to verify posting (except allow 30 days for posting of comments submitted by mail).

FOR FURTHER INFORMATION CONTACT: Manuel Quinones, (703) 602-8383. The information collection requirements addressed in this notice are available electronically on the World Wide Web at: http://www.acq.osd.mil/dpap/dars/dfarspgi/current/index.html.

Paper copies are available from Manuel Quinones, OUSD(AT&L)DPAP/DARS, 3060 Defense Pentagon, Room 3B855, Washington, DC 20301-3060.

SUPPLEMENTARY INFORMATION: Title and OMB Number: Defense Federal Acquisition Regulation Supplement (DFARS) Part 217, Special Contracting Methods, and related provisions and clauses at DFARS 252.217-7012, Liability and Insurance; DFARS 252.217-7026, Identification of Sources of Supply; and 252.217-7028, Over and Above Work; OMB Control Number 0704-0214.

Needs and Uses: DFARS Part 217 prescribes policies and procedures for acquiring supplies and services by special contracting methods. Contracting officers use the required information as follows:

The clause at DFARS 252.217-7012 is used in master agreements for repair and alteration of vessels. Contracting officers use the information required by paragraph (d) of the clause to determine that the contractor is adequately insured. This requirement supports prudent business practice, because it limits the Government's liability as a related party to the work the contractor performs. Contracting officers use the information required by paragraphs (f) and (g) of the clause to keep informed of lost or damaged property for which the Government is liable, and to determine the appropriate course of action for replacement or repair of the property.

Contracting officers use the information required by the provision at DFARS 252.217-7026 to identify the apparently successful offeror's sources of supply so that competition can be enhanced in future acquisitions. This collection complies with 10 U.S.C. 2384, Supplies: identification of supplier and sources, which requires the contractor to identify the actual manufacturer or all sources of supply for supplies furnished under contract to DoD.

Contracting officers use the information required by the clause at 252.217-7028 to determine the extent of “over and above” work before the work commences. This requirement allows the Government to review the need for pending work before the contractor begins performance.

Contracting officers use the information required by DFARS 217.7004(a) where offerors shall state prices for the new items being acquired both with and without any exchange (trade-in allowance).

Contracting officers use the information from 217.7404-3(b), to evaluate a contractor's “qualifying proposal” in accordance with the definitization schedule. This requirement will require receipt of a qualifying proposal containing sufficient information for the DoD to do complete a meaningful analyses and audit of the information in the proposal, and any other information that the contracting officer has determined DoD needs to review in connection with the contract.

Contracting officers use the information from 217.7505(d), where the offeror supply's with its proposal, price and quantity data on any Government orders for the replenishment part issued within the most recent 12 months.

Affected Public: Businesses or other for-profit entities.

Annual Burden Hours: 861,942.

Number of Respondents: 51,839.

Responses per Respondent: 1.7.

Annual Responses: 88,091.

Average Burden per Response: 9.78 hours.

Frequency: On occasion.

Summary of Information Collection

Each provision or clause requires the offeror or contractor to submit certain information:

Paragraph (d)(3) of the clause at DFARS 252.217-7012 requires the contractor to show evidence of insurance under a master agreement for vessel repair and alteration.

Paragraphs (f) and (g) of the clause at DFARS 252.217-7012 require the contractor to notify the contracting officer of any property loss or damage for which the Government is liable, and to submit to the contracting officer a request for reimbursement of the cost of replacement or repair with supporting documentation.

The provision at 252.217-7026 requires the apparently successful offeror to identify its sources of supply.

Paragraphs (c) and (e) of the clause at DFARS 252.217-7028 require the contractor to submit to the contracting officer a work request and a proposal for “over and above” work.

Paragraph (a) of DFARS 217.7004 requires that solicitations which contemplate exchange (trade-in) of personal property and application of the exchange allowance to the acquisition of similar property (see 40 U.S.C. 481), shall include a request for offerors to state prices for the new items being acquired both with and without any exchange (trade-in allowance).

Paragraph (b) of 217.7404-3, Undefinitized Contract Actions, requires the contractor to submit a “qualifying proposal” in accordance with the definitization schedule. A qualifying proposal is defined in 217.7401(c) as a proposal containing sufficient information for the DoD to do complete and meaningful analyses and audits of the information in the proposal, and any other information that the contracting officer has determined DoD needs to review in connection with the contract.

Paragraph (d) of 217.7505, Acquisition of Replenishment Parts permits contracting officers to include in sole-source solicitations that include acquisition of replenishment parts, a provision requiring that the offeror supply with its proposal, price and quantity data on any Government orders for the replenishment part issued within the most recent 12 months (see 10 U.S.C. 2452 note, Spare Parts and Replacement Equipment, Publication of Regulations).

Mary Overstreet,
Editor, Defense Acquisition Regulations System.

[FR Doc. 2011-22128 Filed 8-29-11; 8:45 am]

BILLING CODE 5001-08-P